DEPARTMENT OF COMMERCE

National Oceanic and Atmospheric Administration

50 CFR Part 660

[Docket No. 000831250-0250-01; 071400E]

RIN 0648-AN74

Fisheries off West Coast States and in the Western Pacific; Coastal Pelagic Species Fisheries; Annual Specifications

AGENCY: National Marine Fisheries Service (NMFS), National Oceanic and Atmospheric Administration (NOAA), Commerce.

ACTION: Final harvest guideline.

SUMMARY: NMFS announces the annual harvest guideline for Pacific mackerel in the exclusive economic zone off the Pacific coast. The Coastal Pelagic Species Fishery Management Plan (FMP) and its implementing regulations require NMFS to set an annual harvest guideline for Pacific mackerel based on a formula in the FMP. The intended effect of this action is to establish allowable harvest levels for Pacific mackerel off the Pacific coast.

DATES: Effective September 11, 2000.

FOR FURTHER INFORMATION CONTACT: James J. Morgan, Southwest Region, NMFS, 562-980-4036.

SUPPLEMENTARY INFORMATION: The FMP, which was implemented by a final rule published in the Federal Register on December 15, 1999 (64 FR 69888), divides managed species into two categories—actively managed and monitored. Harvest guidelines of actively managed species (i.e., Pacific sardine and Pacific mackerel) are based on formulas applied to current biomass estimates. Current biomass estimates are not calculated for species that are only monitored (i.e., jack mackerel, northern anchovy, and market squid).

At a public meeting each year, the biomass for each actively managed species is presented by the Pacific Fishery Management Council’s (Council) Coastal Pelagic Species Management Team (Team) to the Council’s Coastal Pelagic Species Advisory Subpanel (Subpanel). At that time, the biomass, the harvest guideline, and the status of the fisheries are reviewed. Following review by the Council’s Scientific and Statistical committee and after hearing public comments, the Council makes a recommendation to NMFS, which publishes the annual harvest guideline in the Federal Register as soon as practicable before the beginning of the appropriate fishing season. The Pacific mackerel season began on July 1, 2000, and ends on June 30, 2001, or until the harvest guideline is caught and the fishery is closed. All landings of Pacific mackerel from July 1, 2000, to the effective date of this rule will be counted toward the total harvest guideline of 20,740 (metric tons) mt.

On June 8, 2000, consistent with the procedures of the FMP, the biomass report and harvest guideline for Pacific mackerel were reviewed at a public meeting of the Team and a public meeting of the Subpanel at the offices of the California Department of Fish and Game in Long Beach, California. A modified virtual population analysis stock assessment model is used to estimate biomass of Pacific mackerel. The model employs both fishery-dependent and fishery-independent indices to estimate abundance. Using this model, the biomass was calculated through the end of 1999. The biomass was then estimated for July 1, 2000, based on (1) the number of Pacific mackerel estimated to comprise each year class at the beginning of 2000, (2) modeled estimates of fishing mortality during 1999, (3) assumptions for natural and fishing mortality through the first half of 2000, and (4) estimates of age-specific growth. Based on this approach, the biomass for July 1, 2000, is 116,967 metric tons (mt) and the harvest guideline is 20,740 mt. At its meeting on June 30, 2000, in Portland, OR, the Council heard reports from the Team, the Scientific and Statistical Committee, and the Subpanel. No public comments were received. The Council recommended publishing the harvest guideline as presented.

The biomass estimated for the period July 1, 1999, through June 30, 2000, was 239,286 mt; therefore, the biomass for the 2000/2001 fishery of 116,967 mt is a significant reduction. During calendar year 1998, Mexico harvested 50,750 mt of Pacific mackerel and the U.S. harvested 20,073 mt. This high fishing mortality is one reason for the decline in biomass. There also has been a general decline in age-zero fish since 1991. Fish were scarce in the area of the fishery off the U.S. coast and off Mexico during 1999.

The formula in the FMP uses the following factors to determine the harvest guideline:

1. The biomass of Pacific mackerel. For 2000, this estimate is 116,967 mt.

2. The cutoff. This is the biomass level below which no commercial fishery is allowed. The FMP established the cutoff level at 18,200 mt.

3. The portion the Pacific mackerel biomass that is in U.S. waters. This estimate is 70 percent, based on the average of larval distribution obtained from scientific cruises and the distribution of the resource obtained from logbooks of fish-spotters.

4. The harvest fraction. This is the percentage of the biomass above 18,200 mt that may be harvested. The FMP established the harvest fraction at 30 percent.

Based on the estimated biomass of 116,967 mt and the formula in the FMP, a harvest guideline of 20,740 mt was calculated for the fishery beginning on July 1, 2000. This harvest guideline is available for harvest for the fishing season July 1, 2000, through June 30, 2001.

Classification

This action is authorized by 50 CFR 660.509 and is exempt from review under Executive Order 12866.

The Assistant Administrator for Fisheries, NOAA (AA)finds for good cause under 5 U.S.C. 553(b)(B) that providing prior notice and an opportunity for public comment on this action is unnecessary. Providing prior notice and an opportunity for public comment would serve no useful purpose because establishing the harvest guideline is a nondiscretionary act determined by following procedures and formulas set in the FMP.

Because this rule merely announces the result of harvest guideline calculations and does not require any participants in the fishery to take action or to come into compliance, the AA finds for good cause under 5 U.S.C. 553(d)(3) that delaying the effective date of this rule for 30 days is unnecessary.

Authority: 16 U.S.C. 1801 et seq.

Dated: September 5, 2000.
William T. Hogarth,
Deputy Assistant Administrator for Fisheries, National Marine Fisheries Service.

[FR Doc. 00-23253 Filed 9-8-00; 8:45 am]

BILLING CODE 3510-22-S